Title 3—

The President

Executive Order 13526 of December 29, 2009—Classified National Security Information

Correction

In Presidential document E9-31418 beginning on page 707 in the issue of Tuesday, January 5, 2010, make the following correction:

On page 731, the date line below the President's signature should read “December 29, 2009.”

[FR Doc. C1-2009-31418

Filed 1-6-10; 2:00 pm]

Billing Code 1505-01-D